DEPARTMENT OF COMMERCE

International Trade Administration

[A-357-820]

Biodiesel From Argentina: Final Results of Antidumping Duty Changed Circumstances Review

AGENCY: Enforcement and Compliance, International Trade Administration, Department of Commerce.

SUMMARY: On July 9, 2019, the Department of Commerce (Commerce) published the preliminary results of the changed circumstances review (CCR) of the antidumping duty (AD) order on biodiesel from Argentina. For these final results, Commerce continues to find that there are insufficient changed circumstances to warrant any revisions under the AD order.

DATES: Applicable May 12, 2020.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On April 26, 2018, Commerce published the AD order on biodiesel from Argentina.¹ On November 13, 2018, in response to a request submitted by the Government of Argentina (GOA), joined by Vicentin S.A.I.C. (Vicentin) and LDC Argentina (LDC), Commerce initiated a CCR for both the AD and countervailing duty (CVD) orders.² Commerce exercised its discretion to toll all deadlines affected by the partial federal government closure from December 22, 2018 through the resumption of operations on January 29, 2019.³ On July 1, 2019, Commerce issued the Preliminary Results and placed additional information on the record of the CCR, pursuant to 19 CFR 351.301(c)(4).⁴ Commerce preliminarily found that the “particular market situation” regarding the price of soybeans as an element of the cost of production of biodiesel in Argentina still existed,⁵ and that no changes under the AD order were warranted as a result of the changed circumstances presented by the GOA. In accordance with 19 CFR 351.309, Commerce invited parties to comment on the Preliminary Results. On July 5, 2019, Commerce provided interested parties until July 12, 2019 to place additional information on the record in order to “rebut, clarify, or correct” the information placed on the record by Commerce.⁶

¹ See Biodiesel from the Republic of Argentina and Indonesia: Antidumping Duty Orders, 83 FR 18279 (April 26, 2018) (Order).

² See Biodiesel from Argentina: Initiation of Changed Circumstances Reviews of the Antidumping and Countervailing Duty Orders, 83 FR 56300 (November 13, 2018).

³ See Memorandum, “Deadlines Affected by the Partial Shutdown of the Federal Government,” dated January 28, 2019.

⁴ See Biodiesel from Argentina: Preliminary Results of Changed Circumstances Reviews of the Antidumping and Countervailing Duty Orders, 84 FR 32714 (July 9, 2019) (Preliminary Results); see also Memorandum, “Additional Information Concerning the Preliminary Changed Circumstances Reviews of Biodiesel,” dated July 1, 2019.

⁵ See Preliminary Results, 84 FR at 32716-17.

⁶ See Memorandum, “Additional Information Concerning the Preliminary Changed Circumstances Reviews of Biodiesel,” dated July 5, 2019.

On July 12, 2019, the National Biodiesel Board Fair Trade Coalition (the petitioner), and LDC and Vicentin submitted additional factual information.⁷ On August 2, 2019, Commerce put a hold on the deadlines for case and rebuttal briefs.⁸ On September 5, 2019, Commerce reinstated deadlines for case and rebuttal briefs.⁹

⁷ See Petitioner's Letter, “Biodiesel from Argentina: Factual Information Pursuant to 19 CFR 301(c)(4),” dated July 12, 2019; see also LDC Argentina and Vicentin's Letter, “Biodiesel from Argentina: Additional Information Concerning the Preliminary Changed Circumstances Reviews of Biodiesel,” dated July 12, 2019.

⁸ See Memorandum, “Changed Circumstances Reviews of the Antidumping and Countervailing Duty Orders on Biodiesel from Argentina: Holding of Deadlines,” dated August 2, 2019.

⁹ See Memorandum, “Changed Circumstances Reviews of the Antidumping and Countervailing Duty Orders on Biodiesel from Argentina: Publication of Verification Report and Reinstatement of Deadlines,” dated September 5, 2019.

On September 11, 2019, the petitioner requested an indefinite suspension of the deadlines for briefs and the final determination.¹⁰ On September 12, 2019, the GOA responded, stating that a short extension of the deadlines would be acceptable.¹¹ On September 12, 2019, Commerce issued a short extension of the deadlines.¹² The petitioner and the GOA submitted case briefs on September 17, 2019.¹³ On September 23, 2019, the petitioner and the GOA submitted rebuttal briefs.¹⁴

¹⁰ See Petitioner's Letter, “Biodiesel from Argentina: Request for Meeting and Extension of Briefing Schedule,” dated September 11, 2019.

¹¹ See GOA's Letter, “Biodiesel from Argentina: Response from the GOA to Petitioner's Request for Meeting and Extension of Briefing Schedule,” dated September 12, 2019.

¹² See Memorandum, “Changed Circumstances Reviews of the Antidumping and Countervailing Duty Orders on Biodiesel from Argentina: Deadline for Case and Rebuttal Briefs and Hearing Requests; Rejection of New Factual Information,” dated September 12, 2019.

¹³ See Petitioner's Case Brief, “Biodiesel from Argentina: Petitioner's Case Brief,” dated September 17, 2019 (Petitioner's Case Brief); see also GOA's Case Brief, “Biodiesel from Argentina Changed Circumstances Review: Government of Argentina Case Brief and Statement with Respect to Public Hearing,” dated September 17, 2019 (GOA's Case Brief).

¹⁴ See Petitioner's Rebuttal Brief, “Biodiesel from Argentina: Rebuttal Brief on Behalf of the National Biodiesel Board Fair Trade Coalition,” dated September 23, 2019 (Petitioner's Rebuttal Brief); see also GOA's Rebuttal Brief, “Biodiesel from Argentina: Rebuttal Brief in AD Changed Circumstances Review,” dated September 23, 2019 (GOA's Rebuttal Brief).

On October 16, 2019, Commerce placed additional factual information on the record of this proceeding.¹⁵ In response, the petitioner placed additional factual information on the record on October 24, 2019.¹⁶ Between the time Commerce released its Preliminary Results and the publication of these final results, Commerce has held numerous phone calls and meetings with parties.¹⁷

¹⁵ See Memorandum, “Ex Parte Meeting with the National Biodiesel Board and the American Soybean Association,” dated October 16, 2019.

¹⁶ See Petitioner's Letter, “Biodiesel from Argentina: Petitioners' Submission to Rebut, Clarify, or Correct Information Placed on the Record,” dated October 24, 2019.

¹⁷ Memorandum, “Email Exchange with Governor Kim Reynolds,” dated July 16, 2019, Memorandum, “Ex Parte Discussion with Governor Kim Reynolds,” dated July 25, 2019, Memorandum, “Ex Parte Discussion with Congressman Darin LaHood,” dated July 25, 2019, Memorandum, “Ex Parte Discussion with Senator Alexander's Office,” dated July 30, 2019, Memorandum, “Correspondence with Minister Dante Sica,” dated August 15, 2019, Memorandum, “Correspondence with Several U.S. Senators,” dated August 15, 2019, Memorandum, “Ex Parte Discussions with the Government of Argentina,” dated August 28, 2019, Memorandum, “Ex Parte Discussion with National Biodiesel Board,” dated September 12, 2019, Memorandum, “Ex Parte Meeting with Senator Grassley's Staff Regarding Biodiesel Changed Circumstances Reviews,” dated September 27, 2019, Memorandum, “Ex Parte Meeting with National Biodiesel Board,” dated September 30, 2019, Memorandum, “Ex Parte Meeting with the National Biodiesel Board and the American Soybean Association,” dated October 16, 2019, Memorandum, “Ex Parte Meeting with the Petitioners,” dated October 18, 2019, Memorandum, “Ex Parte Meeting with the Government of Argentina,” dated October 18, 2019, Memorandum, “Telephone call with Argentine Embassy Official Regarding Changed Circumstances Reviews (CCR) of Biodiesel from Argentina,” dated December 9, 2019, Memorandum, “Telephone call with Representative Darin LaHood to discuss Changed Circumstances Review (CCR) of Biodiesel from Argentina,” dated November 26, 2019, Memorandum, “Telephone call with Senator Chuck Grassley to discuss Changed Circumstances Reviews (CCR) of Biodiesel from Argentina,” dated November 26, 2019, Memorandum, “Telephone call with Ambassador Fernando Oris de Roa to discuss Changed Circumstances Reviews (CCR) of Biodiesel from Argentina,” dated December 5, 2019, Memorandum, “Telephone call with the National Biodiesel Board to discuss Changed Circumstances Reviews of Biodiesel from Argentina,” dated December 19, 2019, Memorandum, “Telephone call with Senator Chuck Grassley to discuss Changed Circumstances Reviews of Biodiesel from Argentina,” dated December 19, 2019, and Memorandum, “Telephone call with Congressman Darin LaHood,” dated March 19, 2020.

Scope of the Order

The product covered by the Order is biodiesel from Argentina. For a complete description of the scope of the Order, see Appendix I of this notice.

Analysis of Comments Received

We addressed all issues raised in the case and rebuttal briefs by parties to this review in the Issues and Decision Memorandum (I&D Memo).¹⁸ Attached to this notice, in Appendix II, is a list of the issues which parties raised. The I&D Memo is a public document and on file in the Central Records Unit (CRU), Room B8024 of the main Commerce building, as well as electronically via Enforcement and Compliance's Antidumping and Countervailing Duty Centralized Electronic Service System (ACCESS). ACCESS is available to registered users at http://access.trade.gov. In addition, a complete version of the I&D Memo can be accessed directly on the internet at http://enforcement.trade.gov/frn/index.html. The signed I&D Memo and the electronic versions of the I&D Memo are identical in content.

¹⁸ See Memorandum, “Issues and Decision Memorandum for the Final Results of Antidumping Duty Changed Circumstances Review: Biodiesel from Argentina,” dated concurrently with, and hereby adopted by, this notice.

Final Results of Changed Circumstances Review

Pursuant to section 751(b)(1) of the Tariff Act of 1930, as amended (the Act), and 19 CFR 351.216, Commerce determines that there are insufficient changed circumstances to warrant any changes under the AD Order.

Cash Deposit Requirements and Assessment

In light of our final results, Commerce is not issuing instructions to U.S. Customs and Border Protection.

Administrative Protective Order (APO)

This notice also serves as a reminder to parties subject to APO of their responsibility concerning the disposition of proprietary information disclose under APO in accordance with 19 CFR 351.305(a)(3). Timely written notification of the return/destruction of APO materials or conversion to judicial protective order is hereby requested. Failure to comply with the regulations and terms of APO is a sanctionable violation.

Notification to Interested Parties

We are issuing and publishing these final results and notice in accordance with sections 751(b)(1) and 777(i) of the Act, and 19 CFR 351.216 and 19 CFR 351.222.

Dated: May 5, 2020.
Jeffrey I. Kessler,
Assistant Secretary for Enforcement and Compliance.

Appendix I

Scope of the Order

The product covered by this order is biodiesel, which is a fuel comprised of mono-alkyl esters of long chain fatty acids derived from vegetable oils or animal fats, including biologically-based waste oils or greases, and other biologically-based oil or fat sources. The order covers biodiesel in pure form (B100) as well as fuel mixtures containing at least 99 percent biodiesel by volume (B99). For fuel mixtures containing less than 99 percent biodiesel by volume, only the biodiesel component of the mixture is covered by the scope of the order.

Biodiesel is generally produced to American Society for Testing and Materials International (ASTM) D6751 specifications, but it can also be made to other specifications. Biodiesel commonly has one of the following Chemical Abstracts Service (CAS) numbers, generally depending upon the feedstock used: 67784-80-9 (soybean oil methyl esters); 91051-34-2 (palm oil methyl esters); 91051-32-0 (palm kernel oil methyl esters); 73891-99-3 (rapeseed oil methyl esters); 61788-61-2 (tallow methyl esters); 68990-52-3 (vegetable oil methyl esters); 129828-16-6 (canola oil methyl esters); 67762-26-9 (unsaturated alkylcarboxylic acid methyl ester); or 68937-84-8 (fatty acids, C12-C18, methyl ester).

The B100 product subject to the order is currently classifiable under subheading 3826.00.1000 of the Harmonized Tariff Schedule of the United States (HTSUS), while the B99 product is currently classifiable under HTSUS subheading 3826.00.3000. Although the HTSUS subheadings, ASTM specifications, and CAS numbers are provided for convenience and customs purposes, the written description of the scope is dispositive.

Attachment II

List of Topics Discussed in the Issues and Decision Memorandum

I. Summary

II. Background

III. Final Results of Review

IV. Discussion of the Issues

Comment 1: Relevance of the GOA's Changes after the Preliminary Results

Comment 2: Whether Commerce Properly Initiated the CCR

Comment 3: Whether a Particular Market Situation Still Exists

V. Recommendation

[FR Doc. 2020-10128 Filed 5-11-20; 8:45 am]

BILLING CODE 3510-DS-P